DEPARTMENT OF AGRICULTURE

Animal and Plant Health Inspection Service

[Docket No. APHIS-2020-0070]

Classify the State of Sonora, Mexico, as Level I for Brucellosis

AGENCY: Animal and Plant Health Inspection Service, USDA.

ACTION: Notice of availability.

SUMMARY: We are advising the public that we are proposing to classify the State of Sonora, Mexico as Level 1 for brucellosis. This proposed recognition is based on an evaluation we have prepared in connection with this action, which we are making available for review and comment.

DATES: We will consider all comments that we receive on or before April 26, 2021.

ADDRESSES: You may submit comments by either of the following methods:

• Federal eRulemaking Portal: Go to www.regulations.gov. Enter APHIS-2020-0070 in the Search field. Select the Documents tab, then select the Comment button in the list of documents.

• Postal Mail/Commercial Delivery: Send your comment to Docket No. APHIS-2020-0070, Regulatory Analysis and Development, PPD, APHIS, Station 3A-03.8, 4700 River Road, Unit 118, Riverdale, MD 20737-1238.

Supporting documents and any comments we receive on this docket may be viewed at regulations.gov or in our reading room, which is located in Room 1620 of the USDA South Building, 14th Street and Independence Avenue SW, Washington, DC. Normal reading room hours are 8 a.m. to 4:30 p.m., Monday through Friday, except holidays. To be sure someone is there to help you, please call (202) 799-7039 before coming.

FOR FURTHER INFORMATION CONTACT: Dr. Kelly Rhodes, Senior Staff Veterinarian, Regionalization Evaluation Services, Strategy and Policy, VS, APHIS, USDA, 4700 River Road, Unit 38, Riverdale, MD 20737-1231; AskRegionalization@usda.gov; (301) 851-3315.

SUPPLEMENTARY INFORMATION: The regulations in 9 CFR part 93, subpart D (§§ 93.400 through 93.442, referred to below as part 93 or the subpart), contain requirements for the importation of ruminants into the United States to address the risk of introducing or disseminating diseases of livestock within the United States. Part 93 currently contains provisions that address the risk that imported bovines (cattle or bison) may introduce or disseminate brucellosis within the United States. Within part 93, § 93.440 contains the requirements for classification of foreign regions for brucellosis and § 93.441 contains the process for requesting regional classification for brucellosis.

In accordance with § 93.440(d), the Animal and Plant Health Inspection Service (APHIS) maintains lists of all Level I, Level II, and Level III regions for brucellosis and adds foreign regions classified in accordance with § 93.441 to these lists.

Section 93.441(b) states that if, after reviewing and evaluating the request for classification, APHIS believes the request can be safely granted, APHIS will publish a notice in the Federal Register indicating the proposed classification and make its evaluation available for public comment. Following the close of the comment period, APHIS will review all comments received and will make a final determination regarding the request that will be detailed in another document published in the Federal Register.

The Government of Mexico has requested that APHIS evaluate and classify the State of Sonora for brucellosis. In response to Mexico's request, we have prepared an evaluation, titled “APHIS Evaluation of the State of Sonora, Mexico for Bovine Brucellosis Classification” (September 2017). The evaluation concludes that the State of Sonora meets the conditions to be classified as Level I for brucellosis, which supports adding the State of Sonora to the web-based list of Level I regions for brucellosis.

Therefore, in accordance with § 93.441(b), we are announcing the availability of our evaluation of Sonora, Mexico for brucellosis, for public review and comment. We are also announcing the availability of an environmental assessment (EA) which has been prepared in accordance with: (1) The National Environmental Policy Act of 1969 (NEPA), as amended (42 U.S.C. 4321 et seq.), (2) regulations of the Council on Environmental Quality for implementing the procedural provision of NEPA (40 CFR parts 1500-1508), (3) USDA regulations implementing NEPA (7 CFR part 1b), and (4) APHIS' NEPA Implementing Procedures (7 CFR part 372).

The evaluation and EA may be viewed on the Regulations.gov website or in our reading room. (Instructions for accessing Regulations.gov and information on the location and hours of the reading room are provided under the heading ADDRESSES at the beginning of this notice.) The documents are also available by contacting the person listed under FOR FURTHER INFORMATION CONTACT.

Information submitted in support of Mexico's request is available by contacting the person listed under FOR FURTHER INFORMATION CONTACT.

After reviewing any comments we receive, we will announce our final determination regarding classification of the State of Sonora, Mexico with respect to brucellosis in a subsequent notice.

Authority: 7 U.S.C. 1622 and 8301-8317; 21 U.S.C. 136 and 136a; 31 U.S.C. 9701; 7 CFR 2.22, 2.80, and 371.4.

Done in Washington, DC, this 18th day of February 2021.
Michael Watson,
Acting Administrator, Animal and Plant Health Inspection Service.

[FR Doc. 2021-03771 Filed 2-23-21; 8:45 am]

BILLING CODE 3410-34-P